DEPARTMENT OF LABOR

Employment and Training Administration

[TA-W-64,389]

A. Schulman, Inc.; Polybatch Color Center Sharon Center, Ohio; Notice of Revised Determination on Reconsideration

On February 24, 2009, the Department issued an Affirmative Determination Regarding Application for Reconsideration applicable to workers and former workers of the subject firm. The notice was published in the Federal Register on March 4, 2009 (74 FR 9430).

The previous investigation initiated on November 10, 2008, resulted in a negative determination issued on December 22, 2008, was based on the finding that imports of color concentrates did not contribute importantly to worker separations at the subject firm and no shift of production to a foreign source occurred. The denial notice was published in the Federal Register on January 14, 2009 (74 FR 2139).

To support the request for reconsideration, the petitioner supplied additional information to supplement that which was gathered during the initial investigation. Upon further review of the information and contact with the company official, it was revealed that the subject firm shifted a portion of plant production to Mexico and that shift contributed to the layoffs at the subject firm during the relevant period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that there was a shift in production from the workers' firm or subdivision to Mexico of articles that are like or directly competitive with those produced by the subject firm or subdivision. In accordance with the provisions of the Act, I make the following certification:

All workers of A. Schulman, Inc., Polybatch Color Center, Sharon Center, Ohio, who became totally or partially separated from employment on or after October 17, 2007, through two years from the date of this certification, are eligible to apply for adjustment assistance under Section 223 of the Trade Act of 1974, and are eligible to apply for alternative trade adjustment assistance under Section 246 of the Trade Act of 1974.

Signed in Washington, DC, this 2nd day of April 2009.
Elliott S. Kushner,
Certifying Officer, Division of Trade Adjustment Assistance.

[FR Doc. E9-8411 Filed 4-13-09; 8:45 am]

BILLING CODE 4510-FN-P